DEPARTMENT OF THE INTERIOR

Bureau of Land Management

[LLNVB00000 L51010000.ER0000 LVRWF0900380 241A; 11-08807; MO#4500018794; TAS: 14X5017]

Notice of Availability of Final Environmental Impact Statement for the Tonopah Solar Energy Crescent Dunes Solar Energy Project, Nye County, NV

AGENCY: Bureau of Land Management, Interior.

ACTION: Notice of availability.

SUMMARY: In accordance with the National Environmental Policy Act of 1969, as amended, and the Federal Land Policy and Management Act of 1976, as amended, the Bureau of Land Management (BLM) has prepared a Final Environmental Impact Statement (EIS) for the Crescent Dunes Solar Energy Project, Nye County, Nevada, and by this notice is announcing its availability.

DATES: The BLM will not issue a final decision on the Crescent Dunes Solar Energy Project for a minimum of 30 days from the date the Environmental Protection Agency publishes its notice of availability in the Federal Register.

ADDRESSES: Copies of the Final EIS will be mailed to individuals, agencies, organizations, or companies who previously requested copies or who responded to the BLM on the Draft EIS. Printed copies or a compact disc of the Final EIS are available upon request from the BLM Tonopah Field Office, 1553 So. Main Street, P.O. Box 911, Tonopah, Nevada 89049, phone: (775) 482-7800; and at the Battle Mountain District Office, 50 Bastian Road, Battle Mountain, Nevada 89820, phone: (775) 635-4000; or by e-mail request to: crescent_dunes@blm.gov. Interested persons may also view the Final EIS at the following Web site: http://www.blm.gov/nv/st/en/fo/battle_mountain_field.html. Copies of the Final EIS are available for public inspection at the following Nevada locations:

• BLM Nevada State Office, 1340 Financial Boulevard, Reno, Nevada 89502

• BLM Battle Mountain District Office, 50 Bastian Road, Battle Mountain, Nevada 89820

• BLM Tonopah Field Office, 1553 South Main, Tonopah, Nevada 89049

FOR FURTHER INFORMATION CONTACT: Timothy Coward, phone: (775) 482-7830; address: BLM Tonopah Field Office, 1553 South Main Street, P.O. Box 911, Tonopah, Nevada 89049; or e-mail: Timothy_Coward@blm.gov.

SUPPLEMENTARY INFORMATION: Tonopah Solar Energy, LLC applied to the BLM for a 7,680-acre right-of-way (ROW) on public lands to construct a concentrated solar thermal power plant facility approximately 13 miles northwest of Tonopah in the southern portion of Big Smoky Valley, north of U.S. Highway 95/6 along the Gabbs Pole Line Road (State Highway 89). The facility is expected to operate for about 30 years and have a nominal capacity of 110 megawatts.

The proposed solar power project will use concentrated solar thermal power technology, which uses heliostats with mirrors to direct sunlight on a tower erected in the center of the solar field. A heat transfer fluid is heated as it passes through the receiver tower and is then circulated through a series of heat exchangers to generate steam. The steam is used to power a conventional steam turbine to generate electricity. The exhaust steam from the turbine is condensed and returned via feedwater pumps to the heat exchangers where the steam is generated again. A combination of dry and wet (hybrid) cooling processes are to be used for this project to minimize water use while continuing to maintain efficient power generation.

The project's proposed design includes the heliostat fields, a 653-foot tall central receiver tower, the power block, buildings, parking and laydown areas, evaporating ponds, and an access road. A single overhead 230-kilovolt transmission line will connect the plant to the nearby Anaconda Moly substation.

The Final EIS describes and analyzes the proposed project's site-specific impacts on air quality, biological resources, cultural resources, visual resources, water resources, geological resources, paleontological resources, land use, noise, soils, public health, socioecononomics, traffic and transportation, waste management, hazardous materials handling, worker safety, fire protection, facility design engineering, transmission system engineering, and transmission line safety.

Three action alternatives were analyzed in addition to the No Action Alternative.

On September 3, 2010, the BLM published the Notice of Availability for the Draft EIS for this project in the Federal Register (75 FR 54177). The BLM held two public meetings and accepted public comment through e-mail, mail, public meetings, and by telephone. A total of 23 comments were received from individuals, organizations, and agencies. The nature of the comments did not necessitate major changes in the Draft EIS. Therefore, an abbreviated Final EIS was prepared addressing responses to the comments, including an errata section with specific modifications and corrections to the Draft EIS made in response to the comments following the standards of 40 CFR 1503.49(c).

These comments addressed effects on air quality, “Dark Sky” attributes, and viewsheds; water use concerns; wildlife and kangaroo mouse mitigation; and social and economic issues, particulary job opportunities. Concerns raised during the review are addressed, and specific responses provided in the Final EIS.

Authority: 40 CFR 1506.6 and 1506.10.

Thomas J. Seley,
Manager, Tonopah Field Office.

[FR Doc. 2010-29782 Filed 11-22-10; 4:15 pm]

BILLING CODE 4310-HC-P